DEPARTMENT OF THE INTERIOR

Bureau of Land Management

[CO-934-5700; COC62391, COC62392, COC62431]

Notice of Proposed Reinstatement of Terminated Oil and Gas Leases

Pursuant to the provisions of 30 U.S.C. 188(d) and (e), and 43 CFR 3108.2-3(a) and (b)(1), a petition for reinstatement of oil and gas leases, COC62391, COC62392, and COC62431, for lands in San Miguel and Montrose counties, Colorado, were timely filed and were accompanied by all the required rentals accruing from the date of termination.

The lessee has agreed to the amended lease terms for rentals and royalties at rates of $10.00 per acre, or fraction thereof, per year and 16 2/3 percent, respectively.

The lessee has paid the required $500 administrative fee and $125 to reimburse the Department for the cost of this Federal Register notice. The lessee has met all the requirements for reinstatement of the lease as set out in Section 31(d) and (e) of the Mineral Lands Leasing Act of 1920 (30 U.S.C. 188), and Bureau of Land Management is proposing to reinstate leases COC62391, COC62392, and COC62431 effective December 1, 1999, subject to the original terms and conditions of the lease and the increased rental and royalty rates cited above.

Kathleen L. Toth,
Land Law Examiner, Oil and Gas Lease Maintenance.

[FR Doc. 00-11135 Filed 5-3-00; 8:45 am]

BILLING CODE 4310-JB-P